GENERAL ACCOUNTING OFFICE

Federal Accounting Standards Advisory Board

AGENCY: General Accounting Office.

ACTION: Notice of meeting on October 5-6, 2000.

Board Action: Pursuant to the Federal Advisory Committee Act (Pub. L. 92-463), as amended, and the FASAB Rules of Procedure, as amended in October, 1999, notice is hereby given that the Federal Accounting Standards Advisory Board (FASAB) will meet on Thursday, October 5, from 9 a.m. to 4 p.m. and Friday, October 6, from 9 a.m. to 4 p.m. in room 6N30, 441 G St., NW, Washington, DC. Please note that the meeting room is different from the usual meeting room.

The purpose of the meeting is to discuss:

• Stewardship Reporting issues,

• A proposed amendment to paragraph 65.2 of SFFAS 7, Accounting for Revenue and Other Financing Sources,

• Responses to the February 2000 exposure draft on accounting for direct loans and loan guarantees,

• National Defense PP&E issues, and

• Other topics as necessary.

A Steering Committee meeting of the Board's Principal Board members will be held in conjunction with the Board meeting. A more detailed agenda can be obtained from the FASAB website (www.financenet.gov/fasab.htm after September 25th, 2000.

Any interested person may attend the meeting as an observer. Board discussion and reviews are open to the public. GAO Building security requires advance notice of your attendance. Please notify FASAB by October 3 of your planned attendance by calling 202-512-7350.

FOR FURTHER INFORMATION CONTACT: Wendy Comes, Executive Director, 441 G St., NW, Mailstop 6K17V, Washington, DC 20548, or call (202) 512-7350.

Authority: Federal Advisory Committee Act. Pub. L. No. 92-463.

Dated: September 8, 2000.
Wendy M. Comes,
Executive Director.

[FR Doc. 00-23663 Filed 9-13-00; 8:45 am]

BILLING CODE 1610-01-M